DEPARTMENT OF THE INTERIOR

Bureau of Land Management

[LLWO350000.16X.L11100000.PI0000 LXSISGMW0000]

Notice of Amended Proposed Withdrawal, Release of Draft Environmental Impact Statement, and Notice of Public Meetings; Idaho, Montana, Nevada, Oregon, Utah, and Wyoming

AGENCY: Bureau of Land Management, Interior.

ACTION: Notice.

SUMMARY: This notice announces the amendment of the September 24, 2015, application by the Assistant Secretary of the Interior for Land and Minerals Management to withdraw approximately 10 million acres of public and National Forest System lands from location and entry under the United States mining laws to protect the Greater Sage-Grouse and its habitat. The amendment adds 387,981.42 acres in the State of Nevada and refines the proposed withdrawal boundaries in Idaho, Montana, Nevada, Oregon, Utah, and Wyoming. In addition, this notice announces the release of the draft Environmental Impact Statement (EIS) for public review, which analyzes and discloses the impacts of the proposed withdrawal.

DATES: Comments must be received by March 28, 2017. Meetings will be held to provide the public with an opportunity to review and comment on the proposed withdrawal amendment and the draft EIS. Please see the SUPPLEMENTARY INFORMATION section for the locations, dates, and times of the scheduled public meetings.

ADDRESSES: Written comments should be sent to Mark Mackiewicz, Bureau of Land Management (BLM) WO, C/O Price Field Office, 125 South 600 West, Price, UT 84501 or submitted electronically to sagebrush_withdrawals@blm.gov. Please see the SUPPLEMENTARY INFORMATION section for an electronic link and office locations where specific legal descriptions and maps of the lands may be reviewed.

FOR FURTHER INFORMATION CONTACT: Mark A. Mackiewicz, BLM, by telephone at 435-636-3616, or by email at mmackiew@blm.gov. Persons using a telecommunications device for the deaf (TDD) may call the Federal Relay Service (FRS) at 800-877-8339. FRS is available 24 hours a day, 7 days a week, to leave a message or question. You will receive a reply during normal business hours.

SUPPLEMENTARY INFORMATION: On September 24, 2015, a Notice of Proposed Withdrawal was published in the Federal Register (80 FR 57635), as corrected (80 FR 63583), which provided notice of the proposal to withdraw the identified lands from location and entry under the United States mining laws for 20 years, subject to valid existing rights. As a result of a request submitted by the State of Nevada, the BLM (applicant) petitioned the Assistant Secretary of the Interior for Land and Minerals Management to amend the original proposal through the addition of 387,981.42 acres of lands in that state. These lands represent a proposal by the State of Nevada to substitute for withdrawal 487,756 acres of high mineral development potential areas in Sagebrush Focal Areas (SFAs) for areas adjacent to SFAs that contain high value habitat and identified Greater Sage-Grouse populations. This petition also amends the original withdrawal proposal by adjusting the boundary of lands located in Idaho, Montana, Nevada, Oregon, Utah, and Wyoming as a result of legal land description refinements that defined the proposed withdrawal boundaries utilizing the public land survey system standards. The boundary adjustments resulted in a slight decrease in overall acres proposed for withdrawal, though refinements vary section-by-section.

The Assistant Secretary of the Interior for Land and Minerals Management has approved the BLM's petition. This action therefore, constitutes a withdrawal proposal of the Secretary of the Interior (43 CFR 2310.1-3(e)).

Exhibit “A” of the application amendment describes the proposed additional public lands in Nevada being considered for withdrawal.

Exhibit “B” describes all of the lands in both the original withdrawal application and the proposed withdrawal amendment under consideration by the BLM and the U.S. Forest Service (USFS). The withdrawal amendment includes 387,981.42 acres in the State of Nevada and the boundary adjustment of lands located in Idaho, Montana, Nevada, Oregon, Utah, and Wyoming that were identified as a result of legal land description refinements.

The written legal land descriptions and the maps depicting the proposed withdrawal for both Exhibit “A” and Exhibit “B” may be found on the BLM internet Web site link: https://www.blm.gov/node/3282.

The maps, legal land descriptions, and records relating to the amendment application may be examined at the following BLM State Offices or USFS Regional Offices or by contacting Mark Mackiewicz at 435-636-3616.

Idaho State Office, 1387 S. Vinnell Way, Boise, ID 83709.

Montana State Office, 5001 Southgate Drive, Billings, MT 59101-4669.

Nevada State Office, 1340 Financial Boulevard, Reno, NV 89502.

Oregon State Office, 1220 SW 3rd Avenue, Portland OR 97204.

Utah State Office, 440 West 200 South, Suite 500, Salt Lake City, UT 84101.

Wyoming State Office, 5353 Yellowstone Road, Cheyenne, Wyoming 82009.

U.S. Forest Service, Region 1, 200 E Broadway St, Missoula, MT 59802.

U.S. Forest Service, Region 4, Federal Building, 324 25th Street, Ogden, UT 84401.

U.S. Forest Service, Region 6, 1220 SW 3rd Avenue, Portland OR 97204.

The withdrawal proposal (including the amendment) will be processed in accordance with the regulations set forth in 43 CFR part 2300.

The purpose of the proposed withdrawal is to protect the Greater Sage-Grouse and its habitat from adverse effects of locatable mineral exploration and mining.

Publication of this notice segregates the lands described in the amended withdrawal application from location or entry under the United States mining laws, subject to valid existing rights, until September 24, 2017, unless the withdrawal application is denied or cancelled or the withdrawal is approved prior to that date. All of the lands (unless otherwise subject to an existing withdrawal) will remain open to the public land laws, leasing under the mineral and geothermal leasing laws, and disposal under the mineral material sales laws.

Non-Federal mineral lands located within the boundaries of the proposed withdrawal areas will not be affected.

Licenses, permits, cooperative agreements, or discretionary land use authorizations may be allowed during the temporary segregative period, but only with the approval of the authorized officer of the BLM or the USFS.

The use of a right-of-way, interagency or cooperative agreement, or surface management by the BLM under 43 CFR 3715 or 43 CFR 3809 regulations will not adequately constrain nondiscretionary uses, which could result in loss of critical Greater Sage-Grouse habitat.

There are no suitable alternative sites for the withdrawal.

No water rights would be needed to fulfill the purpose of the requested withdrawal.

The proposed action analyzed in the draft EIS considers a withdrawal of approximately 10 million acres of Federal lands from location and entry under the United States mining laws for a maximum period of 20 years, subject to valid existing rights. The lands included in the proposed action are National System of Public Lands and National Forest System lands administered by the BLM and the USFS. Public scoping for this project began on September 24, 2015, and closed on January 15, 2016, with the publication in the Federal Register of the Notice of Proposed Withdrawal; Sagebrush Focal Areas; Idaho, Montana, Nevada, Oregon, Utah, and Wyoming and Notice of Intent to Prepare an EIS. During public scoping there were 5,078 unique letters submitted. The issues identified include, but are not limited to:

• Development of Federal mineral resources is authorized by law on BLM and National Forest System Lands; restrictions or closures may decrease the ability to provide mineral resources;

• The proposed action could affect the social and economic conditions within the analysis area, particularly in smaller communities;

• The proposed action could reduce the potential for disturbance to vegetation communities and habitat alteration and fragmentation that otherwise might have occurred from mining activity; and

• Mineral exploration and development has the potential to impact wildlife, including special status species and associated habitat within and adjacent to the proposed withdrawal area.

An interdisciplinary approach was used to develop the draft EIS to consider a variety of resource issues and concerns. Based on internal and external scoping, the issues analyzed in detail in the draft EIS include:

• Geology and mineral resources;

• Vegetation, including special status plant species;

• Wildlife and special status animal species, including Greater Sage-Grouse; and

• Socioeconomic conditions, including environmental justice and human health and safety.

In addition to the proposed action, the draft EIS analyzes and discloses the potential effects of the No Action alternative, State of Nevada alternative, High Mineral Potential alternative, and State of Idaho alternative.

Under the No Action alternative, the proposed withdrawal area would remain open to location and entry under the United States mining laws. New mining claims could be located and the BLM and USFS would continue to oversee and regulate locatable mineral exploration and development in accordance with existing programs, polices, and regulations.

Under the State of Nevada alternative, 487,756 acres of lands in Nevada, that are part of the proposed action would not be withdrawn and 387,981.42 acres of priority Greater Sage-Grouse habitat located contiguous to but outside the SFAs in the State would be included in the withdrawal. Nevada suggested that this alternative be considered to reduce the anticipated economic effect of the proposed withdrawal to the State of Nevada while still meeting the purpose and need for the proposed action.

Under the High Mineral Potential alternative, all areas within the SFAs that contain lands with high mineral potential, as defined by the Sagebrush Mineral-Resource Assessment prepared by the U.S. Geological Survey, would not be withdrawn. Under this alternative, 558,918 acres of high mineral potential lands in the six states that are part of the proposed action would not be withdrawn.

Under the State of Idaho alternative, 538,742 acres of economically developable lands in the State of Idaho that are part of the proposed action would be excluded from the proposed withdrawal and left open to location and entry under the United States mining laws. The State of Idaho identified these areas as economically developable. No additional lands are being proposed for inclusion in the withdrawal under this alternative.

Thirty-one agencies and two American Indian Tribes have entered into Cooperating Agency agreements with the BLM for this EIS effort. Cooperating agencies have jurisdiction by law or special expertise with respect to resources potentially affected by the proposal (40 CFR 1508.5). Cooperating agencies participate in the preparation of the NEPA analysis and documentation. Cooperating agency status does not imply the agency supports the proposed action.

The BLM also contacted 53 American Indian governments via letter or face-to-face meetings during scoping and prior to the release of the draft EIS. The governments were provided a project update, an offer to provide more information, and an offer for government-to-government consultation.

In accordance with 36 CFR 800.3(a)(1), the BLM determined that the proposed SFA withdrawal is an undertaking that has no potential to affect historic properties, assuming such historic properties were present, and therefore the agency official has no further obligation under the National Historic Preservation Act. The BLM informed 53 American Indian governments; the Idaho, Montana, Nevada, Oregon, Utah, and Wyoming State Historic Preservation Offices; and the Advisory Council on Historic Preservation of this determination of effect.

The draft EIS is available at the following libraries and offices online at: https://www.blm.gov/node/3282.

IDAHO

BLM Offices

• Boise District Office, 3948 Development Ave., Boise, ID 83705

• Owyhee Field Office, 20 First Avenue West, Marsing, ID 83639

• Idaho Falls District Office, 1405 Hollipark Dr., Idaho Falls, ID 83401

• Pocatello Field Office, 4350 South Cliffs Drive, Pocatello, ID 83204

• Twin Falls District Office, 2878 Addison Ave. E, Twin Falls, ID 83301

• Shoshone Field Office, 400 West “F” Street, Shoshone, ID 83352

• Salmon Field Office, 1206 South Challis Street, Salmon, ID 83467

• Burley Field Office, 15 East 200 South, Burley, ID 83318

• Challis Field Office, 1151 Blue Mountain Road, Challis, ID 83226

U.S. Forest Service Offices

• Caribou-Targhee National Forest, 1405 Hollipark Drive, Idaho Falls, ID 83401

• Salmon-Challis National Forest, 1206 S. Challis Street, Salmon, ID 83467

• Sawtooth National Forest, 2647 Kimberly Road East, Twin Falls, ID 83301

Libraries

• Mountain Home Public Library, 790 N 10th E Street, Mountain Home, ID 83647

• Boise Public Library, 715 S Capitol Boulevard, Boise, ID 83702

• Twin Falls Public Library, 201 Fourth Avenue East, Twin Falls, ID 83301

• Idaho Falls Public Library, 457 W Broadway Street, Idaho Falls, ID 83402

MONTANA

BLM Offices

• HiLine District Office, 1101 15th Street North, Great Falls, MT 59401

• Glasgow Field Office, 5 Lasar Drive, Glasgow, MT 59230

• Malta Field Office, 501 S. 2nd Street East, Malta, MT 59538

• Central Montana District Office, 920 Northeast Main, Lewistown, MT 59457

• Lewistown Field Office, 920 Northeast Main, Lewistown, MT 59457

Libraries

• Lewistown Public Library, 701 West Main Street, Lewistown, MT 59457

• Phillips County Library, P.O. Box 840, Malta, MT 59538

• Glasgow City-County Library, 408 3rd Avenue South, Glasgow, MT 59230

NEVADA

BLM Offices

• BLM Nevada State Office, 1340 Financial Blvd., Reno NV 89502

• Elko District Office, 3900 Idaho St., Elko, NV 89801

• Winnemucca District Office, 5100 E. Winnemucca Blvd., Winnemucca, NV 89445

• BLM Battle Mountain District Office, 50 Bastian Road, Battle Mountain, NV 89820

U.S. Forest Service Offices

• Humboldt-Toiyabe National Forest, 1200 Franklin Way, Sparks, NV 89431

Libraries

• Humboldt County Library, US Highway 95, McDermitt, NV 89421

• Humboldt County Library, 85 East 5th Street, Winnemucca, NV 89445

• Elko County Library, 720 Court Street, Elko, NV 89801

• Battle Mountain Branch Library, PO Box 141, NV 89820

• Jackpot Branch Library, 2301 Progressive Road, Jackpot, NV 89825

• Washoe County Library, PO Box 2151, Reno, NV 89801

OREGON

BLM Offices

• Burns District Office, 28910 Hwy 20 West, Hines, OR 97738

• Lakeview Field Office, 1301 South G. Street, Lakeview, OR 97630

• Vale District Office, 100 Oregon St, Vale, OR 97918

U.S. Forest Service Offices

• Fremont-Winema National Forest, 1301 South G Street, Lakeview, OR 97630

Libraries

• Harney County Library, 80 West D Street, Burns OR 97720

• Malheur County Library, 388 SW 2nd Avenue, Ontario, OR 97914

• Lake County Library, County Courthouse, Lakeview, OR 97630

UTAH

BLM Offices

• West Desert District Office, 2370 S. Decker Lake Blvd., West Valley City, UT 84119

• BLM Utah State Office, 440 West 200 South, Suite 500, Salt Lake City, Utah 84101

U.S. Forest Service Offices

• Uinta-Wasatch-Cache National Forest, 857 West South Jordan Parkway, South Jordan, UT 84095

Libraries

• Box Elder County Bookmobile Library, 80 W 50 S, Willard, UT 84340-0595

• Cache County Library at Providence, 15 North Main, Providence, UT 84332

• Rich County Library and Bookmobile, 20 N Main, Randolph, UT 84064

• Salt Lake City Public Library, 210 E 400 S, Salt Lake City, UT 84111

WYOMING

BLM Offices

• High Desert District Office, 280 Highway 191 North, Rock Springs, WY 82901

• Kemmerer Field Office, 430 North Highway 189, Kemmerer, WY 83101

• Wind River/Bighorn Basin District Office, 101 South 23rd, Worland, WY 82401

• Lander Field Office, 1335 Main Street, Lander, WY 82520

• Pinedale Field Office, 1625 West Pine Street, Pinedale, WY 82941

Libraries

• Fremont County Library, 244 Amoretti Street, Lander, WY 82520

• Rock Springs Library, 400 C Street, Rock Springs, WY 82901

• Lincoln County Library, 519 Emerald Street, Kemmerer, WY 83101

• Sublette County Library, 155 S Tyler Street, Pinedale, WY 82941

Specific comments or concerns about the proposed withdrawal will be most helpful to the BLM. Your comments should identify specific concerns with the potential environmental effects, reasonable alternatives, and measures to avoid or lessen the proposed withdrawal's environmental impacts. The more specific your comments, the more useful they will be. To ensure consideration of your comments on the proposal in the final EIS, it is important that the BLM receive your comments before March 28, 2017.

After the comments are reviewed, any significant new issues will be investigated, modifications will be made to the draft EIS, and a final EIS will be published and distributed. The final EIS will contain the agency's responses to timely comments received on the draft EIS.

In accordance with the requirements of 43 CFR 2310.3-1(b)(2)(iv) and 40 CFR 1506.6(b), for a period until March 28, 2017, all persons who wish to submit comments, suggestions, or objections in connection with the proposed withdrawal amendment as it relates to the lands in the six states and/or the draft EIS may present their views in writing to Mark Mackiewicz, BLM WO, C/O Price Field Office, 125 South 600 West, Price, Utah 84501, or by email to: sagebrush_withdrawals@blm.gov or by attending one of the public meetings on the dates and times as noted below.

Notice is also hereby given that public meetings in connection with the proposed withdrawal and the release of the draft EIS will be held on the following dates, times, and locations:

Monday, February 13, 2017, from 2 p.m. to 4 p.m.—Great Northern Hotel, 2 South 1st Street, Malta, MT 59538

Tuesday, February 14, 2017, from 5 p.m. to 7 p.m.—BLM West Desert District Office, 2370 S. Decker Lake Dr., West Valley City, UT 84119

Wednesday, February 15, 2017, from 5 p.m. to 7 p.m.—Rock Springs BLM Office, 280 Hwy 191 N, Rock Springs, WY 82901

Thursday, February 16, 2017, from 5p.m. to 7 p.m.—Shiloh Suites Conference Hotel, 780 Lindsay Blvd., Idaho Falls, ID 83402

Tuesday, February 21, 2017, from 5 p.m. to 7 p.m.—The Nugget, 1100 Nugget Avenue, Sparks, NV 89431

Wednesday, February 22, 2017, from 5 p.m. to 7 p.m.—Lakeview BLM District Office, 1301 South G Street, Lakeview, OR 97720

Thursday, February 23, 2017, from 5 p.m. to 7 p.m.—Elko Conference Center, 724 Moren Way, Elko, NV 89801

Friday, February 24, 2017, from 5 p.m. to 7 p.m.—Best Western Vista Inn, 2645 Airport Way, Boise, ID 83709

The public will have an opportunity to provide oral and written comments at the meetings. All comments received will be considered before any recommendation concerning the proposed withdrawal is submitted to the Assistant Secretary of the Interior for Land and Minerals Management for final action.

Comments including names and street addresses of respondents will be available for public review at the BLM Washington Office at the address noted above, during regular business hours, Monday through Friday, except Federal holidays. Before including your address, phone number, email address, or other personal identifying information in your comment, you should be aware that your entire comment—including your personal identifying information—may be made publicly available at any time. While you can ask us in your comment to withhold your personal identifying information from public review, we cannot guarantee that we will be able to do so.

Jenna Whitlock,
Acting Deputy Director, Operations, Bureau of Land Management.

[FR Doc. 2016-31629 Filed 12-29-16; 8:45 am]

BILLING CODE 4310-84-P